DEPARTMENT OF STATE

[Public Notice: 7762]

Advisory Committee International Postal and Delivery Services

AGENCY: Department of State.

ACTION: Notice; FACA Committee meeting announcement.

SUMMARY: As required by the Federal Advisory Committee Act, Public Law 92-463, the Department of State gives notice of a meeting of the Advisory Committee on International Postal and Delivery Services. This Committee has been formed in fulfillment of the provisions of the 2006 Postal Accountability and Enhancement Act (Pub. L. 109-435) and in accordance with the Federal Advisory Committee Act.

Date and Time: The meeting will be held on Tuesday, March 20, 2012, from 1 to 5 p.m.

Location: The American Institute of Architects, 1735 New York Ave. NW., Washington, DC 20006.

Public input: Any member of the public interested in providing public input to the meeting should contact Mr. Matthew Hillsberg, whose contact information is listed under FOR FURTHER INFORMATION CONTACT section of this notice. Each individual providing oral input is requested to limit his or her comments to five minutes. Requests to be added to the speaker list must be received in writing (letter, email or fax) prior to the close of business on March 13, 2012; written comments from members of the public for distribution at this meeting must reach Mr. Hillsberg by letter, email or fax by this same date. A member of the public requesting reasonable accommodation should make the request to Mr. Hillsberg by that same date.

Meeting agenda: The agenda of the meeting will include a review of the results of the November 2011 UPU Council of Administration and the February-March 2012 joint session of the UPU Postal Operations Council and Council of Administration, issues and proposals related to the 2012 UPU Congress, and other subjects related to international postal and delivery services of interest to Advisory Committee members and the public.

For further information, please contact Mr. Matthew Hillsberg of the Office of Global Systems (IO/GS), Bureau of International Organization Affairs, U.S. Department of State, at (202) 736-7039 or by email at HillsbergM@state.gov.

Dated: February 14, 2012.
Patricia Lacina,
Director, Office of Global Systems, Bureau of International Organization Affairs, Department of State.

[FR Doc. 2012-3968 Filed 2-17-12; 8:45 am]

BILLING CODE 4710-19-P